COMMITTEE FOR THE IMPLEMENTATION OF TEXTILE AGREEMENTS

Determination under the Textile and Apparel Commercial Availability Provision of the Dominican Republic-Central America-United States Free Trade Agreement (CAFTA-DR Agreement)

September 20, 2006.

AGENCY: The Committee for the Implementation of Textile Agreements (CITA)

ACTION: Determination to add a product in unrestricted quantities to Annex 3.25 of the CAFTA-DR Agreement

EFFECTIVE DATE: September 26, 2006.

SUMMARY: The Committee for the Implementation of Textile Agreements (CITA) has determined that certain 2-way stretch woven fabrics, as specified below, are not available in commercial quantities in a timely manner in the CAFTA-DR region. The product will be added to the list in Annex 3.25 of the CAFTA-DR in unrestricted quantities.

FOR FURTHER INFORMATION CONTACT: Richard Stetson, Office of Textiles and Apparel, U.S. Department of Commerce, (202) 482 2582.

FOR FURTHER INFORMATION ON-LINE:

http://web.ita.doc.gov/tacgi/CaftaReqTrack.nsf. Reference number: 15.2006.08.17.Fabric.ST&RforLido

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. Articles that otherwise meet the rule of origin to qualify for preferential treatment are not disqualified because they contain one of the products on the Annex 3.25 list.

The CAFTA-DR Agreement provides that the list in Annex 3.25 may be modified pursuant to Article 3.25(4)-(6). The CAFTA-DR Act states that the President will make a determination on whether additional fabrics, yarns, and fibers are available in commercial quantities in a timely manner in the territory of any Party. The CAFTA-DR Act requires the President to establish procedures governing the submission of a request and to provide an opportunity for interested entities to submit comments and supporting evidence before making a determination. In Presidential Proclamations 7987 and 7996, the President delegated to CITA the authority under section 203(o)(4) of CAFTA-DR Act for modifying the Annex 3.25 list. On February 23, 2006, CITA published interim procedures it would follow in considering requests to modify the Annex 3.25 list (71 FR 9315).

On August 17, 2006, the Chairman of CITA received a request from Sandler, Travis, & Rosenberg, P.A. on behalf of Lido Industrias for certain 2-way stretch woven fabrics, of the specifications detailed below. On August 21, 2006, CITA notified interested parties of, and posted on its Web site, the accepted petition and requested that interested entities provide, by August 31, 2006, a response advising of its objection to the request or its ability to supply the subject product, and rebuttals to responses by September 7, 2006.

No interested entity filed a response advising of its objection to the request or its ability to supply the subject product.

In accordance with Section 203(o)(4) of the CAFTA-DR Act, and its procedures, as no interested entity submitted a response objecting to the request or expressing an ability to supply the subject product, CITA has determined to add the specified fabrics to the list in Annex 3.25.

The subject fabrics are added to the list in Annex 3.25 of the CAFTA-DR Agreement in unrestricted quantities. A revised list has been published at: http://web.ita.doc.gov/tacgi/CaftaReqTrack.nsf/Annex3.25.

Specifications:

HTSUS Subheading: | 5515.11.00
Fiber Content: | 60% to 75% Polyester / 20% to 35% viscose rayon /3% to 6% spandex
Fiber Length: | 51 to 70 millimeter staple (2 to 2.75 inches)
Yarn Number: | Warp and filling: 50/2 to 68/2 metric wrapped around 225 metric spandex (30/2 to 40/2 wrapped around 40-denier spandex)
Thread Count: | 30 to 32 warp ends x 24 to 26 filling picks per square centimeter (76 to 81 warp ends x 60 to 66 filling picks per square inch)
Weave Type: | Various
Weight: | 220 to 250 grams per square meter (6.5 to 7.4 ounces per square yard)
Width: | 142 to 148 centimeters (56 to 59 inches)
Finish: | Dyed; of yarns of different colors

Philip J. Martello,
Acting Chairman, Committee for the Implementation of Textile Agreements.

[FR Doc. E6-15736 Filed 9-25-06; 8:45 am]

BILLING CODE 3510-DS